SMALL BUSINESS ADMINISTRATION

[Declaration of Disaster #3291; Amendment #1]

State of Idaho

In accordance with a notice from the Federal Emergency Management Agency, dated September 20, 2000, the above-numbered Declaration is hereby amended to include Ada, Bingham, Blaine, Custer, Lincoln, and Valley Counties in the State of Idaho as a disaster area due to damages caused by wildfires beginning on July 27, 2000 and continuing.

In addition, applications for economic injury loans from small businesses located in the contiguous counties of Bonneville, Canyon, and Jefferson in the State of Idaho may be filed until the specified date at the previously designated location. Any counties contiguous to the above-named primary counties and not listed herein have been previously declared.

All other information remains the same, i.e., the deadline for filing applications for physical damage is October 31, 2000 and for economic injury the deadline is June 1, 2001.

(Catalog of Federal Domestic Assistance Program Nos. 59002 and 59008.)
Dated: September 21, 2000.
Herbert L. Mitchell,
Acting Associate Administrator for Disaster Assistance.

[FR Doc. 00-24956 Filed 9-28-00; 8:45 am]

BILLING CODE 8025-01-P